DEPARTMENT OF LABOR

Employment and Training Administration

[TA-W-54,636]

Wyoming Wood Products, Inc., West Wyoming, PA; Notice of Negative Determination on Remand

The United States Court of International Trade (USCIT) granted the Department of Labor's request for voluntary remand of the negative determination on reconsideration in Former Employees of Westside Stitching, Inc. and Wyoming Wood Products, Inc. v. Secretary of Labor (Court No. 04-00410).

The Department's denial of Trade Adjustment Assistance (TAA) and Alternate Trade Adjustment Assistance (TAA) for workers of Wyoming Wood Products, Inc., West Wyoming, Pennsylvania was issued on June 16, 2004 and was published in the Federal Register on July 7, 2004 (69 FR 40983). Petitioners had filed as an adversely affected secondary group. The workers produced wood frames used in the production of motion furniture. The investigation revealed that the company to which the subject company supplied component parts was not TAA certified.

A Dismissal of Application for Reconsideration was issued on August 4, 2004 and was published in the Federal Register on August 11, 2004 (69 FR 48895). The request was denied because the application contained no new substantial information.

On October 5, 2004, the USCIT granted a consent motion for voluntary remand and ordered the Department to conduct a further investigation and determine whether the petitioning workers are eligible for trade adjustment assistance.

Pursuant to 19 U.S.C. 2272(c)(4), a worker must be employed by a company that produces or supplies “component parts for articles that were the basis for a certification of eligibility” of a group of primarily trade-affected workers to be certified as a secondarily trade-affected worker, per the Trade Act.

The subject company supplied wood frames exclusively to Westside Stitching, Inc., West Wyoming, Pennsylvania, a company that the Department has determined not to be adversely import-impacted (TA-W-54,635).

Conclusion

After reconsideration on remand, I affirm the original notice of negative determination of eligibility to apply for adjustment assistance for workers and former workers of Wyoming Wood Products, Inc., West Wyoming, Pennsylvania.

Signed at Washington, DC this 2nd day of December 2004.
Elliott S. Kushner,
Certifying Officer, Division of of Trade Adjustment Assistance.

[FR Doc. E4-3580 Filed 12-8-04; 8:45 am]

BILLING CODE 4310-30-P